DEPARTMENT OF COMMERCE

International Trade Administration

[A-570-827]

Certain Cased Pencils from the People's Republic of China: Final Results and Partial Rescission of Antidumping Duty Administrative Review

AGENCY: Import Administration, International Trade Administration, Department of Commerce.

SUMMARY: On January 7, 2009, the Department of Commerce (the “Department”) published the preliminary results of the administrative review of the antidumping duty order on certain cased pencils from the People's Republic of China, covering the period December 1, 2006, through November 30, 2007. See Certain Cased Pencils from the People's Republic of China; Preliminary Results and Partial Rescission of Antidumping Duty Administrative Review, 74 FR 673 (January 7, 2009) (“Preliminary Results”). We gave the interested parties an opportunity to comment on the Preliminary Results. After reviewing the interested parties' comments, we made changes to our calculations for the final results of the review. The final dumping margin for this review is listed in the “Final Results of the Review” section below.

EFFECTIVE DATE: July 13, 2009.

FOR FURTHER INFORMATION CONTACT: David Layton or Alexander Montoro, AD/CVD Operations, Office 1, Import Administration, International Trade Administration, U.S. Department of Commerce, 14th Street and Constitution Avenue, N.W., Washington, DC 20230; telephone (202) 482-0371 or (202) 482-0238, respectively.

SUPPLEMENTARY INFORMATION:

Background

The Department published the Preliminary Results on January 7, 2009. On January 12, 2009, the Department sent supplemental questionnaires to mandatory respondents China First Pencil Co., Ltd. (“China First”), Shanghai Three Star Stationery Industry Corp. (“Three Star”), and Shandong Rongxin Import & Export Co., Ltd. (“Rongxin”) (collectively, “the respondents”), and received responses from China First and Three Star on February 2, 2009, a response from Rongxin on January 29, 2009, and an addendum to Rongxin's response on February 18, 2009. The Department sent a supplemental questionnaire to Three Star on February 20, 2009, and received a response on February 23, 2009. China First, Three Star, and the petitioners, Sanford L.P., Musgrave Pencil Company, RoseMoon Inc., and General Pencil Company (collectively, “the petitioners”), submitted comments on Three Star's February 23, 2009, supplemental response on February 25, 2009. Additional supplemental questionnaires were sent to Rongxin, China First, and Three Star on March 25, and April 21, 2009, respectively, and responses were received from Rongxin on April 3, 2009, and from China First and Three Star on April 28, 2009.

China First, Three Star, and the petitioners, submitted surrogate value comments on February 10, 2009. On February 9 and 10, 2009, the petitioners submitted factual information, and China First and Three Star issued a rebuttal to that factual information on February 12, 2009.

From February 16 through February 28, 2009, we conducted verification of the questionnaire responses submitted by China First and Three Star. The Department released its verification reports for China First and Three Star to interested parties on May 22, 2009.

As noted in the Preliminary Results, five respondents subject to this review were not selected as mandatory respondents.¹ We issued separate rate applications and certifications to all five of these companies. We are rescinding one of these respondents, Dixon, as requested, on the basis that it had no shipments in the POR, as discussed below. SFTC filed its separate rate certification on July 24, 2008. In our analysis of the information on the record regarding SFTC, we found no information indicating the existence of government control of SFTC's export activities. See SFTC's submission of July 24, 2008. Consequently, we determine that SFTC has met the criteria for the application of a separate rate. The remaining three non-mandatory respondents did not submit either a separate rates certification or application. One of these three companies, Tianjin, qualified for a separate rate in an earlier administrative review. See Certain Cased Pencils from the People's Republic of China; Final Results and Partial Rescission of Antidumping Duty Administrative Review, 68 FR 43082, 43084 (July 21, 2003). However, because Tianjin did not submit a separate rate certification in the instant review, it will now be treated as part of the PRC-wide entity. Consequently, Anhui, Guangdong, and Tianjin have not satisfied the criteria for separate rates for the POR and are considered as being part of the PRC-wide entity.

¹ Beijing Dixon Stationery Company Ltd. (“Dixon”), Oriental International Holding Shanghai Foreign Trade Co., Ltd. (“SFTC”), Guangdong Provincial Stationery & Sporting Goods Import & Export Corporation (“Guangdong”), Tianjin Custom Wood Processing Co., Ltd. (“Tianjin”), and Anhui Import & Export Co., Ltd. (“Anhui”).

The petitioners and the respondents submitted case briefs on June 2, 2009 and rebuttal briefs on June 8, 2009. None of the parties requested a hearing.

Final Partial Rescission

On July 3, 2008, Beijing Dixon Stationery Company Ltd. (“Dixon”) requested that the Department rescind the administrative review with respect to Dixon and certified that it had no exports, sales or entries of subject merchandise to the United States during the Period of Review (“POR”). We reviewed U.S. Customs and Border Protection (“CBP”) import data and found no evidence that Dixon had any shipments of subject merchandise during the POR. In addition, on July 17, 2008, we made a “No Shipments Inquiry” to CBP to confirm that there were no exports of subject merchandise by Dixon during the POR. We asked CBP to notify us within ten days if CBP “has contrary information and is suspending liquidation” of subject merchandise exported by Dixon. CBP did not reply with contrary information. See Memorandum from Alexander Montoro to the File, entitled “Intent to Rescind in Part the Antidumping Duty Administrative Review on Certain Cased Pencils from the People's Republic of China,” August 7, 2008 (“Intent to Rescind Memo”). The Department provided interested parties in this review until August 14, 2008, to submit comments on the Intent to Rescind Memo. No interested party submitted any comments. Accordingly, we are rescinding this review with respect to Dixon.

Scope of the Order

Imports covered by the order are shipments of certain cased pencils of any shape or dimension (except as described below) which are writing and/or drawing instruments that feature cores of graphite or other materials, encased in wood and/or man-made materials, whether or not decorated and whether or not tipped (e.g., with erasers, etc.) in any fashion, and either sharpened or unsharpened. The pencils subject to the order are currently classifiable under subheading 9609.10.00 of the Harmonized Tariff Schedule of the United States (“HTSUS”). Specifically excluded from the scope of the order are mechanical pencils, cosmetic pencils, pens, non-cased crayons (wax), pastels, charcoals, chalks, and pencils produced under U.S. patent number 6,217,242, from paper infused with scents by the means covered in the above-referenced patent, thereby having odors distinct from those that may emanate from pencils lacking the scent infusion. Also excluded from the scope of the order are pencils with all of the following physical characteristics: (1) length: 13.5 or more inches; (2) sheath diameter: not less than one-and-one quarter inches at any point (before sharpening); and (3) core length: not more than 15 percent of the length of the pencil.

In addition, pencils with all of the following physical characteristics are excluded from the scope of the order: novelty jumbo pencils that are octagonal in shape, approximately ten inches long, one inch in diameter before sharpening, and three-and-one eighth inches in circumference, composed of turned wood encasing one-and-one half inches of sharpened lead on one end and a rubber eraser on the other end.

Although the HTSUS subheading is provided for convenience and customs purposes, the written description of the scope of the order is dispositive.

Analysis of Comments Received

All issues raised in the case briefs are addressed in the “Issues and Decision Memorandum for the 2006-2007 Administrative Review of Certain Cased Pencils from the People's Republic of China” (“Issues and Decision Memorandum”), which is dated concurrently with and hereby adopted by this notice. A list of the issues which parties raised and to which we responded in the Issues and Decision Memorandum is attached to this notice as an Appendix. The Issues and Decision Memorandum is a public document which is on file in the Central Records Unit in room 1117 in the main Department building, and is accessible on the web at http://www.ia.ita.doc.gov/frn. The paper copy and electronic version of the memorandum are identical in content.

Changes Since the Preliminary Results

Based on our analysis of the comments received, we made the following changes in calculating dumping margins: (1) we adjusted the surrogate value for slats to reflect wood loss in producing slats from lumber; (2) we corrected the World Trade Atlas (“WTA”) data, which we used as surrogate values, for certain exclusions and errors made in the Preliminary Results; (3) we made corrections to certain clerical errors. In addition, we have calculated separate antidumping margins for China First and Three Star. See Comment 1 of the Issues and Decision Memorandum. For further details, see “Analysis for the Final Results of Antidumping Duty Administrative Review of Certain Cased Pencils from the People's Republic of China: Shanghai Three Star Stationery Industry Co., Ltd.,” “Analysis for the Final Results of Antidumping Duty Administrative Review of Certain Cased Pencils from the People's Republic of China: China First Pencil Co., Ltd.,” “Analysis for the Final Results of Antidumping Duty Administrative Review of Certain Cased Pencils from the People's Republic of China: Shandong Rongxin Import & Export Co.” and “2006-2007 Antidumping Duty Administrative Review of Certain Cased Pencils from the People's Republic of China: Factor Valuation for the Final Results” memoranda, all dated July 6, 2009.

Final Results of the Review

We determine that the following percentage weighted-average dumping margin exists for the period December 1, 2006, through November 30, 2007:

Manufacturer/exporter | Margin (percent)
China First Pencil Company, Ltd. (which includes its affiliates China First Pencil Fang Zheng Co., Shanghai First Writing Instrument Co., Ltd., and Shanghai Great Wall Pencil Co., Ltd.) | 26.32
Shanghai Three Star Stationery Industry Corp. | 60.91
Shandong Rongxin Import & Export Co., Ltd. | 11.48
Orient International Holding Shanghai Foreign Trade Co., Ltd. | 32.90
PRC-wide Entity² | 114.90
²The PRC-wide entity includes Anhui Import Export Co., Ltd. (“Anhui”), Guangdong Provincial Stationery and Sporting Goods Import Export Corporation (“Guangdong”), and Tianjin Custom Wood Processing Co., Ltd. (“Tianjin“). A review was requested for these three companies.

As stated above in the “Background” section of this notice, SFTC qualifies for a separate rate in this review. Moreover as stated above in the “Background” section of this notice, we did not select SFTC as a mandatory respondent in this review. Therefore, SFTC is being assigned a dumping margin based on the calculated margins of mandatory respondents which are not de minimis or based on adverse facts available, in accordance with Department practice. Accordingly, we have assigned SFTC the simple-average of the dumping margins assigned to the China First, Three Star, and Rongxin.

Assessment Rates

The Department has determined, and CBP shall assess, antidumping duties on all appropriate entries. The Department intends to issue assessment instructions to CBP 15 days after the date of publication of the final results of review.

For China First, Three Star, and Rongxin, we calculated customer-specific antidumping duty assessment amounts for subject merchandise based on the ratio of the total amount of antidumping duties calculated for the examined sales of subject merchandise to the total quantity of subject merchandise sold in these transactions. We calculated these per unit assessment amounts in this fashion, as opposed to calculating import-specific ad valorem rates in accordance with 19 CFR 351.212 (b)(1), because the entered values and importers of record for China First's, Three Star's, and Rongxin's reported U.S. sales are not on the record. Where the customer-specific assessment rate is above de minimis, we will instruct CBP to assess the customer-specific rate uniformly on the entered customs value of all POR entries of subject merchandise sold to the customer. To determine whether the per-unit duty assessment rates were de minimis (i.e., less than 0.50 percent ad valorem), in accordance with the requirement set forth in 19 CFR 351.106 (c) (2), we calculated customer-specific ad valorem ratios based on the export prices.

For SFTC, the company which was not selected for individual review and met the separate application status, we calculated an assessment rate based on the weighted-average margin calculated for the mandatory respondents, which are not de minimis or based on adverse facts available, in accordance with Department practice. We will instruct CBP to assess antidumping duties on this company's entries equal to the margin this company has received in the final results, regardless of the importer of, or customer who purchased its subject merchandise.

The other three companies for whom a review was requested, Anhui, Guangdong, and Tianjin, did not provide separate rate information. Therefore, the Department finds that they are not entitled to a separate rate. As a result, these three companies will be considered part of the PRC-wide entity. We will instruct CBP to liquidate entries for all companies in the PRC-wide entity at the PRC-wide rate of 114.90 percent.

For entries of the subject merchandise during the POR from companies not subject to this review, we will instruct CBP to liquidate them at the cash deposit rate in effect at the time of entry. The final results of this review shall be the basis for the assessment of antidumping duties on entries of merchandise covered by the final results of this review and for future deposits of estimated duties, where applicable.

Cash Deposit Requirements

The following cash-deposit requirements will apply to all shipments of certain cased pencils from the PRC entered, or withdrawn from warehouse, for consumption on or after the publication date of the final results of this administrative review, as provided by section 751(a)(1) of the Tariff Act of 1930, as amended (the “Act”): (1) the cash deposit rates for the reviewed companies named above will be the rates for those firms established in the final results of this administrative review; (2) for any previously reviewed or investigated PRC or non-PRC exporter, not covered in this review, with a separate rate, the cash deposit rate will be the company-specific rate established in the most recent segment of this proceeding; (3) for all other PRC exporters, the cash deposit rate will be the PRC-wide rate established in the final results of this review which is 114.90 percent; and (4) the cash-deposit rate for any non-PRC exporter of subject merchandise from the PRC will be the rate applicable to the PRC exporter that supplied that exporter. These deposit requirements, when imposed, shall remain in effect until further notice.

Notification to Interested Parties

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a final reminder to parties subject to the administrative protective order (“APO”) of their responsibility concerning the return or destruction of proprietary information disclosed under the APO in accordance with 19 CFR 351.305. Timely written notification of the return or destruction of APO materials or conversion to judicial protective order is hereby requested. Failure to comply with the regulations and the terms of an APO is a sanctionable violation.

This notice of final results is issued and published in accordance with sections 751(a)(1) and 777(i)(1) of the Act.

Dated: July 6, 2009.
John M. Andersen,
Acting Deputy Assistant Secretary for Antidumping and Countervailing Duty Operations.

Appendix Issues in Decision Memorandum

Comment 1: Collapsing Analysis

Comment 2: Three Star's Responses and Application of Adverse Facts Available

a. Market Economy Purchase Claims

b. Alleged Failure to Report Certain Information Warrants Application of AFA

Comment 3: Appropriate Labor Rate

Comment 4: Surrogate Values

a. Slats

b. Cores and Lacquer

c. Castor Oil, Kaolin Clay, and Packing

d. Steam Coal

Comment 5: Adjustment of the Pencil Slat Surrogate Value to Account for Wood Loss

Comment 6: Whether Certain WTA Data Are Aberrational

Comment 7: Correction of Clerical Errors

Comment 8: Use of Wrong Surrogate Value for “Shell Card”

[FR Doc. E9-16511 Filed 7-10-09; 8:45 am]

BILLING CODE 3510-DS-S